OVERSEAS PRIVATE INVESTMENT CORPORATION

Procedure for Submission of Invoices for Over-Age Contracts

AGENCY: Overseas Private Investment Corporation (OPIC).

ACTION: Notice of intent to execute quick closeout procedures.

SUMMARY: The Overseas Private Investment Corporation (OPIC) currently has contracts that are considered over-age and developed procedures that would enable the Agency to closeout these elapsed actions in an efficient and cost-effective manner. OPIC seeks to facilitate the closeout of these actions by requesting all OPIC contractors with contracts identified on this list submit any outstanding invoices.

DATES: For the contract actions listed herein, interested parties must submit all outstanding invoices within 60 days after publication of this notice.

ADDRESSES: Mail all comments, questions or invoices in response to this notice to Anthony Terrell, Overseas Private Investment Corporation, 1100 New York Avenue NW, Washington, DC 20527. See SUPPLEMENTARY INFORMATION for other information about submissions.

FOR FURTHER INFORMATION CONTACT: Anthony Terrell, Office of Acquisitions, Overseas Private Investment Corporation, 1100 New York Ave. NW, Washington, DC 20527, 202-357-3960; anthony.terrell@opic.gov.

SUPPLEMENTARY INFORMATION: The Overseas Private Investment Corporation (OPIC) currently has contracts that are considered over-age, as the period of performance or final delivery date of these actions have expired and the standard time allowed for contract file closeout has elapsed. OPIC developed procedures that would enable the Agency to closeout these elapsed actions in an efficient and cost-effective manner. These procedures required the Agency to identify those expired contracts that could more easily be closed out based on certain criteria.

The identified contracts not only pose a significant burden to various acquisition and financial systems, but they also impede OPIC's ongoing efforts to strengthen and modernize its financial management practices. One of these modernization practices involves transitioning to a new contract writing system, which involves the conversion of financial data for all OPIC contract actions that are active. The procedures OPIC developed to significantly reduce the number of expired contracts with unliquidated funds will enable OPIC to expeditiously close these actions. OPIC developed the procedures using risk-based management principles by first identifying and classifying open, expired contracts as low-risk based on the following criteria: (i) The contract has a period of performance that expired prior to Sept. 30, 2016; (ii) the contract expired and the additional time allowed for contract file closeout under FAR 4.804-1(a) has elapsed; and (iii) the contract had no invoice or payment activity within the past 12 months.

Notwithstanding OPIC's intention to expeditiously closeout the actions identified at the aforementioned list, contractors' rights are protected under 41 U.S.C. 7101-7109, which establishes procedures for filing claims against Federal Government contracts. Normal contract file retention requirements will apply after closeouts under FAR 4.805.

OPIC seeks to facilitate the closeout of these actions, as required under Federal Acquisition Regulation (FAR) 4.804-1(a), by requesting all OPIC contractors with contracts identified on this list submit any outstanding invoices.

List of Identified Contracts for Closeout
PO No. | Vendor name
OPIC-07-C-0053 | OFFICE MOVERS, INC.
OPIC-07-C-0058 | BREWOOD CORP.
OPIC-07-D-0010/T03 | GENERAL DYNAMICS INFORMATION TECHNOLOGY, INC.
OPIC-08-C-0003 | KAPLAN AND STRATTON.
OPIC-08-C-0035 | PACE GLOBAL ENERGY SERVICES.
OPIC-08-C-0053 | ROLLING GREENS.
OPIC-08-D-0001/T09 | GRA, INC.
OPIC-08-D-0004/T03 | KELLY, ANDERSON & ASSOCIATES, INC.
OPIC-08-D-0004/T04 | KELLY, ANDERSON & ASSOCIATES, INC.
OPIC-08-D-0005/T06 | SENSA SOLUTIONS INC.
OPIC-09-C-0005 | ALLEN & OVERY LLP.
OPIC-09-C-0006 | HILLS STERN MORLEY.
OPIC-09-C-0011 | AZIZ, FUAD AND RAJA SHEHADEH LAW OFFICE.
OPIC-09-C-0015 | YIGAL ARNON AND CO.
OPIC-09-C-0019 | ZACARIAS AND ASSOCIATES INC.
OPIC-09-C-0044 | DEWEY AND LEBOEUF LLP.
OPIC-09-C-0046 | STEPTOE & JOHNSON, L.L.P.
OPIC-09-C-0048 | AMERICAN OFFICE EQUIPMENT COMPANY, INC.
OPIC-09-D-0002/OP-02 | DELPHOS INTERNATIONAL, LTD.
OPIC-09-D-0002/T02 | DELPHOS INTERNATIONAL, LTD.
OPIC-09-D-0002/T03 | DELPHOS INTERNATIONAL, LTD.
OPIC-09-D-0002/T04 | DELPHOS INTERNATIONAL, LTD.
OPIC-09-D-0002/T05 | DELPHOS INTERNATIONAL, LTD.
OPIC-09-D-0008/T01 | BIRD, ROGER.
OPIC-09-D-0009/T01 | PROJECT FINANCE ADVISOR LLC.
OPIC-09-D-0009/T02 | PROJECT FINANCE ADVISOR LLC.
OPIC-09-D-0009/T03 | PROJECT FINANCE ADVISOR LLC.
OPIC-09-M-0022 | C O P E INC.
OPIC-10-A-0004/T02 | ENVIRONMENTAL RESOURCES MANAGEMENT INC.
OPIC-10-A-0004/T03 | ENVIRONMENTAL RESOURCES MANAGEMENT INC.
OPIC-10-A-0009/T01 | SRI INTERNATIONAL.
OPIC-10-A-0011 | BRACEWELL & GIULIANI LLP.
OPIC-10-A-0011/T02 | BRACEWELL & GIULIANI LLP.
OPIC-10-A-0014/T02 | MFM CONFERENCE INTERPRETATION LLC.
OPIC-10-C-0002 | DEWEY AND LEBOEUF LLP.
OPIC-10-C-0003 | VERITE INC.
OPIC-10-C-0008 | MFM CONFERENCE INTERPRETATION LLC.
OPIC-10-C-0011 | IRAQ LAW ALLIANCE, PLLC.
OPIC-10-C-0012 | BRACEWELL & GIULIANI LLP.
OPIC-10-C-0017 | JUAN DUMAS.
OPIC-10-C-0021 | STEPTOE & JOHNSON, L.L.P.
OPIC-10-C-0023 | HURST K. GROVES.
OPIC-10-C-0024 | WALTON, THOMAS E.
OPIC-10-C-0025 | R. M. THORNTON, INC.
OPIC-10-C-0026 | WILSON INTERNATIONAL LAW, L.L.C.
OPIC-10-C-0030 | ALI SHARIF ZU'BU LAW OFFICE.
OPIC-10-C-0031 | BINGHAM MCCUTCHEN LLP.
OPIC-10-C-0034 | DEWEY AND LEBOEUF LLP.
OPIC-10-C-0035 | BAKER AND MCKENZIE V.O.S. ADVOKATNI KANCELAR.
OPIC-10-C-0038 | ASSEGAF HAMZAH & PARTNERS.
OPIC-10-C-0045 | HEMSLEY FRASER GROUP, INC.
OPIC-10-F-0003 | DOD SUPPLY ACTIVITY.
OPIC-10-M-0025 | FRONTIERMEDEX, INC.
OPIC-10-M-0032 | EMPRESA MINERA MANQUIRI S.A.
OPIC-10-M-0039 | IRON MOUNTAIN INFORMATION MANAGEMENT, LLC.
OPIC-10-M-0059 | NATIONAL MAILING SYSTEMS INC.
OPIC-10-M-0077 | NES ASSOCIATES, LLC.
OPIC-10-M-0082 | DIRECTV, INC.
OPIC-10-M-0090 | AZ/JH REIT (DC) LP.
OPIC-11-A-0001/T02 | RENAE GRIFFIN & ASSOCIATES, INC.
OPIC-11-A-0002/T01 | LINDER & ASSOCIATES, INC.
OPIC-11-A-0006/OP-04 | WHITEFORD, TAYLOR & PRESTON L.L.P.
OPIC-11-A-0006/OP-05 | WHITEFORD, TAYLOR & PRESTON L.L.P.
OPIC-11-A-0007/T01 | CROSS-CULTURAL CONSULTING SERVICES, P.L.L.C.
OPIC-11-A-0008/T01 | ENVIRON HOLDINGS, INC.
OPIC-11-A-0012/T01 | THINK ENERGY, INC.
OPIC-11-A-0013/OP-02 | HILLS STERN MORLEY.
OPIC-11-A-0013/OP-03 | HILLS STERN MORLEY.
OPIC-11-A-0013/OP-12 | HILLS STERN MORLEY.
OPIC-11-C-0002 | FRISHBERG & PARTNERS, LTD.
OPIC-11-C-0003 | SHEARMAN & STERLING LLP.
OPIC-11-C-0004 | CAMBRIDGE ASSOCIATES LLC.
OPIC-11-C-0005 | JUAN DUMAS.
OPIC-11-C-0013 | FACTIVA, INC.
OPIC-11-C-0017 | CAMBRIDGE ASSOCIATES LLC.
OPIC-11-C-0019 | DEWEY AND LEBOEUF LLP.
OPIC-11-C-0023 | WORLDBUSINESS CAPITAL, INC.
OPIC-11-C-0024 | BERGER SINGERMAN, P.A.
OPIC-11-C-0025 | PATRICIA LEON WOOLFSON.
OPIC-11-C-0026 | U.S. BANK NATIONAL ASSOCIATION.
OPIC-11-C-0027 | STEPTOE & JOHNSON, L.L.P.
OPIC-11-C-0028 | INTERNATIONAL BUSINESS LEGAL ASSOCIATES (IBLAW).
OPIC-11-C-0029 | TRANS USA, INC.
OPIC-11-C-0034 | HILLS STERN MORLEY.
OPIC-11-C-0035 | MORRISON AND FOERSTER LLP.
OPIC-11-C-0040 | TRITON FEDERAL SOLUTIONS, INC.
OPIC-11-C-0041 | SNR DENTON US LLP.
OPIC-11-C-0042 | STEPTOE & JOHNSON, L.L.P.
OPIC-11-C-0043 | NORTON ROSE FULBRIGHT US LLP.
OPIC-11-C-0045 | COMBYTE U S A.
OPIC-11-C-0047 | HILLS STERN MORLEY.
OPIC-11-C-0048 | STOICA & ASOCIATII S C A.
OPIC-11-C-0052 | PAVILION ALTERNATIVES GROUP LTD.
OPIC-11-C-0054 | ALI SHARIF ZU'BU LAW OFFICE.
OPIC-11-C-0055 | BENTSI ENCHILL LETSA AND ANKOMAH.
OPIC-11-C-0058 | BONN SCHMITT STEICHEN.
OPIC-11-C-0059 | AL KAMEL LAW.
OPIC-11-C-0060 | REI SYSTEMS, INC.
OPIC-11-C-0062 | NORTON ROSE FULBRIGHT US LLP.
OPIC-11-C-0063 | GREENGATE, LLC.
OPIC-11-C-0066 | GENESIS SECURITY SYSTEMS, LLC.
OPIC-11-C-0067 | SUMMIT CONSULTING LLC.
OPIC-11-M-0009 | CANON SOLUTIONS AMERICA, INC.
OPIC-11-M-0024 | VERIZON BUSINESS NETWORK SERVICES INC.
OPIC-11-M-0056 | HOGAN LOVELLS US LLP.
OPIC-11-M-0074 | BUSINESS WIRE, INC.
OPIC-11-M-0096 | U.S. BANK NATIONAL ASSOCIATION.
OPIC-11-M-0097 | WORLDBUSINESS CAPITAL, INC.
OPIC-12-A-0002/T01 | KEYPOINT GOVERNMENT SOLUTIONS, INC.
OPIC-12-C-0002 | ALLEN & OVERY LLP.
OPIC-12-C-0003 | ALLENS ARTHUR ROBINSON.
OPIC-12-C-0004 | DEBEVOISE & PLIMPTON LLP.
OPIC-12-C-0008 | IRAQ LAW ALLIANCE, PLLC.
OPIC-12-C-0010 | PARSONS KINGHORN & HARRIS PC.
OPIC-12-C-0011 | GARDINER & THEOBALD EOOD.
OPIC-12-C-0012 | FRANKLIN PARK ASSOCIATES, LLC.
OPIC-12-C-0013 | DLA PIPER GEORGIA LP.
OPIC-12-C-0016 | HCI VALUATION SERVICES.
OPIC-12-C-0017 | SATCHU & ZHOUAND FZE.
OPIC-12-C-0020 | CARAG ZABALLERO SAN PABLO CALICA & ABIERA.
OPIC-12-C-0023 | ZACARIAS AND ASSOCIATES INC.
OPIC-12-C-0024 | ALLEN & OVERY LLP.
OPIC-12-C-0025 | DEBEVOISE & PLIMPTON LLP.
OPIC-12-C-0026 | GARDINER & THEOBALD EOOD.
OPIC-12-C-0027 | BINGHAM MCCUTCHEN LLP.
OPIC-12-C-0029 | ALLEN & OVERY LLP.
OPIC-12-C-0032 | ALLEN & OVERY LLP.
OPIC-12-C-0034 | HUDICOURT-WOOLLEY.
OPIC-12-C-0037 | TAVERNI, LINDA.
OPIC-12-C-0038 | ALLEN & OVERY LLP.
OPIC-12-C-0039 | BYENKYA KIHIKA AND COMPANY ADVOCATES.
OPIC-12-C-0040 | HILLS STERN MORLEY.
OPIC-12-C-0041 | ALLEN & OVERY LLP.
OPIC-12-C-0042 | PROJECT FINANCE ADVISOR LLC.
OPIC-12-C-0043 | GOMEZ PINZON ZULETA ABODGADOS.
OPIC-12-C-0044 | DLA PIPER GEORGIA LP.
OPIC-12-C-0046 | OGIER.
OPIC-12-C-0047 | WORLDBUSINESS CAPITAL, INC.
OPIC-12-C-0050 | TAVERNI, LINDA.
OPIC-12-C-0054 | ANDREY GORODISSKY AND PARTNERS.
OPIC-12-C-0056 | ANDREY GORODISSKY AND PARTNERS.
OPIC-12-C-0061 | HARNEY WESTWOOD AND RIEGELS.
OPIC-12-F-0002 | KORN/FERRY INTERNATIONAL.
OPIC-12-M-0011 | PBME JORDAN OFFICE.
OPIC-12-M-0013 | GENESIS SECURITY SYSTEMS, LLC.
OPIC-12-M-0031 | WALTON, THOMAS E.
OPIC-12-M-0051 | WORLDBUSINESS CAPITAL, INC.
OPIC-12-M-0067 | STEPTOE & JOHNSON, L.L.P.
OPIC-12-M-0069 | GARDINER & THEOBALD EOOD.
OPIC-12-M-0095 | GLOBAL RECOVERY GROUP, LLC.
OPIC-13-A-0006/OP-02 | WOMBLE BOND DICKINSON (US) LLP.
OPIC-13-A-0006/OP-04 | WOMBLE BOND DICKINSON (US) LLP.
OPIC-13-A-0006/OP-06 | WOMBLE BOND DICKINSON (US) LLP.
OPIC-13-A-0009/OP-01 | PAVILION ALTERNATIVES GROUP LTD.
OPIC-13-A-0009/OP-02 | PAVILION ALTERNATIVES GROUP LTD.
OPIC-13-A-0009/OP-04 | PAVILION ALTERNATIVES GROUP LTD.
OPIC-13-A-0010/OP-01 | FRANKLIN PARK ASSOCIATES, LLC.
OPIC-13-A-0014/T01 | IMPRINT CAPITAL ADVISORS LLC.
OPIC-13-A-0015/OP-01 | TORREYCOVE CAPITAL PARTNERS LLC.
OPIC-13-C-0002 | ALLEN & OVERY LLP.
OPIC-13-C-0003 | INTERNATIONAL BUSINESS LEGAL ASSOCIATES (IBLAW).
OPIC-13-C-0004 | PENSION CONSULTING ALLIANCE, INC.
OPIC-13-C-0006 | RODNER, MARTINEZ AND ASOCIADOS.
OPIC-13-C-0007 | BREEN & ASSOCIATES LLC.
OPIC-13-C-0010 | CMS RUI PENA & ARNAUT.
OPIC-13-C-0011 | TOZZINI FREIRE TEIXEIRA E SILVA.
OPIC-13-C-0012 | KHAZANA CAPITAL LIMITED.
OPIC-13-C-0013 | UPWELLING CAPITAL GROUP LLC.
OPIC-13-C-0017 | ORRICK, HERRINGTON & SUTCLIFFE LLP.
OPIC-13-C-0019 | BRUCHOU, FERNANDEZ MADERO & LOMBARDI.
OPIC-13-C-0021 | GALINDO, ARIAS & LOPEZ.
OPIC-13-C-0022 | MAYER BROWN LLP.
OPIC-13-C-0023 | EDIZEN CORPORATION.
OPIC-13-C-0024 | URSA NAVIGATION SOLUTIONS, INC.
OPIC-13-C-0026 | ELLENOFF GROSSMAN & SCHOLE LLP.
OPIC-13-C-0027 | PINILLA, GONZALEZ & PRIETO.
OPIC-13-C-0028 | MFM CONFERENCE INTERPRETATION LLC.
OPIC-13-C-0033 | TRILEGAL.
OPIC-13-C-0036 | ELLENOFF GROSSMAN & SCHOLE LLP.
OPIC-13-C-0038 | PAUL HASTINGS LLP.
OPIC-13-C-0039 | FTI CONSULTING, INC.
OPIC-13-C-0040 | CREEL, GARCIA-CUELLAR Y MUGGENBURG, S.C.
OPIC-13-M-0003 | OMNIDIGITAL STUDIO, INC.
OPIC-13-M-0005 | GLOBAL RECOVERY GROUP, LLC.
OPIC-13-M-0008 | GLOBAL RECOVERY GROUP, LLC.
OPIC-13-M-0016 | AZ/JH REIT (DC) LP.
OPIC-13-M-0026 | AZ/JH REIT (DC) LP.
OPIC-13-M-0029 | BERNE UNION.
OPIC-13-M-0036 | WESTLAND ENTERPRISES, INC.
OPIC-13-M-0037 | SIEMENS INDUSTRY INC.
OPIC-13-M-0045 | iPROMOTEu.
OPIC-13-M-0057 | TRANSPERFECT TRANSLATIONS INTERNATIONAL INC.
OPIC-13-M-0060 | GESTION SUPPLEANCE RECHERCHES INTERMEDIATION.
OPIC-13-M-0061 | MINADEV CONSULTING.
OPIC-13-M-0067 | AZ/JH REIT (DC) LP.
OPIC-13-M-0073 | HOPPMANN COMMUNICATIONS CORPORATION.
OPIC-13-M-0075 | O'KEEFE, JOSEPH.
OPIC-13-M-0078 | SWEETLAND REALTY AND DEVELOPMENT INC.
OPIC-13-M-0083 | ACHES FINANZAS, S.C.
OPIC-14-A-0001/OP-01 | ELLENOFF GROSSMAN & SCHOLE LLP.
OPIC-14-C-0009 | NORTON ROSE FULBRIGHT US LLP.
OPIC-14-C-0012 | NORTON ROSE FULBRIGHT US LLP.
OPIC-14-C-0013 | ERNST & YOUNG LLP.
OPIC-14-C-0014 | AMARCHAND AND MANGALDAS AND SURESH A SHROFF AND CO.
OPIC-14-C-0015 | AFGHANISTAN LAWYERS INTERNATIONAL.
OPIC-14-C-0021 | JEFFERSON CONSULTING GROUP, LLC.
OPIC-14-C-0022 | ORRICK, HERRINGTON & SUTCLIFFE LLP.
OPIC-14-C-0025 | DOYLE PRINTING AND OFFSET CO., INC.
OPIC-14-C-0028 | STEPTOE & JOHNSON, L.L.P.
OPIC-14-C-0029 | NORTON ROSE FULBRIGHT US LLP.
OPIC-14-C-0035 | UNITED LAW OFFICE STANKOVIC & PARTNERS.
OPIC-14-M-0002 | SCHULZE GLOBAL INVESTMENTS LIMITED.
OPIC-14-M-0005 | CHATHAM FINANCIAL CORP.
OPIC-14-M-0006 | LUNATUS MARKETING & CONSULTING FZCO.
OPIC-14-M-0011 | NEOPOST, INC.
OPIC-14-M-0015 | TRANSPERFECT TRANSLATIONS INTERNATIONAL INC.
OPIC-14-M-0016 | OGIER.
OPIC-14-M-0024 | BERNE UNION.
OPIC-14-M-0025 | WALTON, THOMAS E.
OPIC-14-M-0026 | LUX SCIENTIAE, INCORPORATED.
OPIC-14-M-0028 | GLOBAL RECOVERY GROUP, LLC.
OPIC-14-M-0030 | HEWLETT-PACKARD COMPANY.
OPIC-14-M-0034 | AMERICAN COUNCIL ON RENEWABLE ENERGY.
OPIC-14-M-0041 | HALLOWANGER, HELENA G.
OPIC-14-M-0047 | SWEETLAND REALTY AND DEVELOPMENT INC.
OPIC-14-M-0050 | KNIGHT PIESOLD AND CO.
OPIC-14-M-0051 | iPROMOTEu.
OPIC-14-M-0064 | CENTER FOR CREATIVE LEADERSHIP.
OPIC-14-M-0066 | iPROMOTEu.
OPIC-14-M-0067 | HERITAGE PRINTING & GRAPHICS.
OPIC-14-M-0068 | NOMADIC DISPLAY CAPITOL INC.
OPIC-14-M-0070 | URSA NAVIGATION SOLUTIONS, INC.
OPIC-14-M-0075 | DOCUMENT & DATA SOLLUTIONS.
OPIC-14-M-0077 | GREENLIGHT PLANET INDIA PVT. LTD.
OPIC-14-M-0079 | CATHERINE E BLUE.
OPIC-14-M-0082 | WORLDBUSINESS CAPITAL, INC.
OPIC-15-C-0002 | D.C. CENTRAL KITCHEN, INC, (THE).
OPIC-15-C-0003 | SHEARMAN & STERLING LLP.
OPIC-15-C-0011 | TURCAN CAZAC.
OPIC-15-C-0037 | GRAHAM STAFFING SERVICES INC.
OPIC-15-C-0040 | HOPPMANN COMMUNICATIONS CORPORATION.
OPIC-15-F-0003 | TRAINING RESOURCES GROUP INC.
OPIC-15-F-0008 | GREENGATE, LLC.
OPIC-15-M-0005 | ISOMURA, DAIRO.
OPIC-15-M-0025 | APPLEBY SERVICES (BERMUDA) LTD.
OPIC-15-M-0027 | ARLEX CONSULTING SERVICES.
OPIC-15-M-0028 | WINDOWS CATERING CO INC.
OPIC-15-M-0031 | FITCH 7CITY LEARNING, INC.
OPIC-15-M-0035 | THOMSON REUTERS GRC INC.
OPIC-15-M-1000 | FMO ENTREPRENEURIAL DEVELOPMENT BANK.
OPIC-16-D-0001 | PAVILION ALTERNATIVES GROUP LTD.
OPIC-16-D-0002 | DALBERG CONSULTING-U.S., LLC.
OPIC-16-D-0003 | MEKETA INVESTMENT GROUP, INC.
OPIC-16-D-0004 | TORREYCOVE CAPITAL PARTNERS LLC.
OPIC-16-D-0005 | FRANKLIN PARK ASSOCIATES, LLC.
OPIC-16-D-0006 | RISCURA SOLUTIONS (UK) LIMITED.
OPIC-16-D-0007 | SUMMIT STRATEGIES.
OPIC-16-D-0008 | STEPSTONE GLOBAL.
OPIC-16-P-0008 | HCP CONSULTING SERVICES, L.P.
OPIC-16-P-0026 | EEM INC.
OPIC-16-P-0056 | PETER TROPPER LLC.

Dated: March 11, 2019.
Nichole Skoyles,
Administrative Counsel, Department of Legal Affairs.

[FR Doc. 2019-04711 Filed 3-13-19; 8:45 am]

BILLING CODE P